DEPARTMENT OF TRANSPORTATION

Federal Aviation Administration

14 CFR Part 39

[Docket No. FAA-2008-0196; Directorate Identifier 2008-CE-002-AD]

RIN 2120-AA64

Airworthiness Directives; APEX Aircraft Model CAP 10 B Airplanes

AGENCY: Federal Aviation Administration (FAA), Department of Transportation (DOT).

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

Further to a new fracture in flight of a CAP 10B wing in June 2003, the investigation in process seems to point out that a wrong application of CAP 10B Service Bulletin No. 16 (CAP 10B-57-004) would lead to the impossibility of detecting the potential spar damage while performing the Type Certificate holder upper spar flange inspection.

The proposed AD would require actions that are intended to address the unsafe condition described in the MCAI.

DATES: We must receive comments on this proposed AD by March 26, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Sarjapur Nagarajan, Aerospace Engineer, FAA, Small Airplane Directorate, 901 Locust, Room 301, Kansas City, Missouri 64106; telephone: (816) 329-4145; fax: (816) 329-4090.

SUPPLEMENTARY INFORMATION:

Comments Invited

We invite you to send any written relevant data, views, or arguments about this proposed AD. Send your comments to an address listed under the ADDRESSES section. Include “Docket No. FAA-2008-0196; Directorate Identifier 2008-CE-002-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On February 4, 2003, we issued AD 2003-04-02, Amendment 39-13050 (68 FR 7904; February 19, 2003). That AD required actions intended to address an unsafe condition on the products listed above.

Since we issued AD 2003-04-02, another wing of a Model CAP 10 B airplane cracked in flight.

The Direction Générale de L'Aviation Civile (DGAC), which is the aviation authority for France, has issued AD 2003-375(A), dated October 1, 2003 (referred to after this as “the MCAI”), to correct an unsafe condition for the specified products. The MCAI states:

Further to a new fracture in flight of a CAP 10B wing in June 2003, the investigation in process seems to point out that a wrong application of CAP 10B Service Bulletin No. 16 (CAP 10B-57-004) would lead to the impossibility of detecting the potential spar damage while performing the Type Certificate holder upper spar flange inspection.

The MCAI requires you to check that the No. 1 wing rib has been modified, comply with load factors and operating limitations, and do repetitive inspections of the upper and lower spar flanges and landing gear attachment blocks.

We are proposing to add new actions, retain actions from AD 2003-04-02, and change the applicability (reduce the number) of the airplanes.

You may obtain further information by examining the MCAI in the AD docket.

Relevant Service Information

APEX Aircraft has issued Avions Mudry & CIE Service Bulletin CAP10B No. 16, dated April 27, 1992; APEX Aircraft Document No. 1000913GB, dated February 4, 2002; APEX Aircraft Document No. 1000914GB, dated February 4, 2002; and APEX Aircraft Document No. 1000915GB, dated February 4, 2002. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 31 products of U.S. registry including those airplanes affected by AD 2003-04-02. We also estimate that it would take about 20 work-hours per product to comply with the basic requirements of this proposed AD. The average labor rate is $80 per work-hour.

Based on these figures, we estimate the cost of the proposed AD on U.S. operators to be $49,600, or $1,600 per product.

The estimated total cost on U.S. Operators includes the cumulative costs associated with those airplanes affected by AD 2003-04-02 and those costs associated with the lesser number of airplanes and the new actions that would be added in this proposed AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13050 (68 FR 7804; February 19, 2003), and adding the following new AD:

APEX Aircraft: Docket No. FAA-2008-0196; Directorate Identifier 2008-CE-002-AD.

Comments Due Date

(a) We must receive comments by March 26, 2008.

Affected ADs

(b) This AD supersedes AD 2003-04-02, Amendment 39-13050.

Applicability

(c) This AD applies to Model CAP 10 B airplanes, serial numbers (SNs) 01, 02, 03, 04, and 1 through 282, certificated in any category, which have not been fitted with a replacement wood/carbon wing following application of major change 000302.

Subject

(d) Air Transport Association of America (ATA) Code 57: Wings.

Reason

(e) The mandatory continuing airworthiness information (MCAI) states:

“Further to a new fracture in flight of a CAP 10B wing in June 2003, the investigation in process seems to point out that a wrong application of CAP 10B Service Bulletin No. 16 (CAP 10B-57-004) would lead to the impossibility of detecting the potential spar damage while performing the Type Certificate holder upper spar flange inspection.''

The MCAI requires you to check that the No. 1 wing rib has been modified, comply with load factors and operating limitations, and do repetitive inspections of the upper and lower spar flanges and landing gear attachment blocks.

Restatement of Requirements of AD 2003-04-02

(f) Unless already done, do the following actions:

(1) For Model CAP 10 B airplanes with SNs 01, 02, 03, 04, and 1 through 263, within the next 100 hours time-in-service (TIS) after July 23, 1993 (the compliance date retained from AD 2003-04-02), unless already done, install a permanent inspection opening in the No. 1 wing rib following Avions Mudry Service Bulletin CAP10B No. 16, dated April 27, 1992. Inspection openings are incorporated during production for airplanes having a serial number of 264 or higher.

(2) For all affected airplanes, initially inspect the upper wing spar cap, the main wing spar undersurface, and the landing gear attachment blocks for cracks within the next 55 hours TIS after April 4, 2003 (the compliance date retained from AD 2003-04-02) following APEX Aircraft Document No. 1000913GB, dated February 4, 2002; APEX Aircraft Document No. 1000914GB, dated February 4, 2002; and APEX Aircraft Document No. 1000915GB, dated February 4, 2002. Repetitively inspect the upper wing spar cap and the main wing spar undersurface thereafter at intervals not to exceed 55 hours TIS. Repetitively inspect the landing gear attachment blocks thereafter at intervals not to exceed 1,000 hours TIS.

(3) For all affected airplanes, before further flight if any cracks are found during any inspection required in paragraph (f)(2) of this AD, do the following:

(i) Obtain a repair scheme from the manufacturer through the FAA at the address specified in paragraph (h)(1) of this AD;

(ii) Incorporate this repair scheme; and

(iii) Continue to inspect as specified in paragraph (f)(2) of this AD.

New Requirements of This AD: Actions and Compliance

(g) Unless already done, do the following actions:

(1) Load factors limitation: Before further flight, as of the effective date of this AD, the load factors limitation for solo flight is +5 and −3.5 Gs and when 2 persons are on board is +4.3 and −3.5 Gs.

(2) Flick (snap roll) maneuvers speed limitation: Before further flight, as of the effective date of this AD, for positive and negative flick maneuvers, the airspeed limitation is 160 km/hour (86 knots).

(3) Fabricate a placard that incorporates the following words (using at least 1/8-inch letters) and install this placard on the instrument panel within the pilot's clear view: “THE NEVER EXCEED AIRSPEED FOR POSITIVE OR NEGATIVE FLICK MANEUVERS IS 160 KM/H (86 KNOTS). THE LOAD FACTORS LIMITATION FOR SOLO FLIGHT IS +5 AND −3.5 Gs AND WHEN 2 PERSONS ARE ON BOARD IS +4.3 AND −3.5 Gs.”

FAA AD Differences

Note: This AD differs from the MCAI and/or service information as follows: This AD does not include the requirement from the MCAI to route the request to operate beyond the load factors limitation and flick (snap roll) maneuvers speed limitation through the DGAC. You may make this request to the FAA following paragraph (h)(1) of this AD.

Other FAA AD Provisions

(h) The following provisions also apply to this AD:

(1) Alternative Methods of Compliance (AMOCs): The Manager, Standards Office, FAA, has the authority to approve AMOCs for this AD, if requested using the procedures found in 14 CFR 39.19. Send information to ATTN: Sarjapur Nagarajan, Aerospace Engineer, FAA, Small Airplane Directorate, 901 Locust, Room 301, Kansas City, Missouri 64106; telephone: (816) 329-4145; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI French AD 2003-375(A), dated October 1, 2003; Avions Mudry & CIE Service Bulletin CAP10B No. 16, dated April 27, 1992, APEX Aircraft Document No. 1000913GB, dated February 4, 2002; APEX Aircraft Document No. 1000914GB, dated February 4, 2002; and APEX Aircraft Document No. 1000915GB, dated February 4, 2002, for related information.

Issued in Kansas City, Missouri, on February 14, 2008.
David R. Showers,
Acting Manager, Small Airplane Directorate, Aircraft Certification Service.

[FR Doc. E8-3411 Filed 2-22-08; 8:45 am]

BILLING CODE 4910-13-P